DEPARTMENT OF AGRICULTURE

Farm Service Agency

Funding for the Conservation Loan Program; Farm Loan Programs

AGENCY: Farm Service Agency, USDA.

ACTION: Notice.

SUMMARY: This notice announces that the Farm Service Agency (FSA) is no longer accepting direct or guaranteed loan applications for the Conservation Loan (CL) Program because of lack of program funding.

DATES: Effective May 13, 2011.

FOR FURTHER INFORMATION CONTACT: Connie Holman, (202) 690-0756. Persons with disabilities who require alternative means for communication (Braille, large print, audio tape, etc.) should contact the USDA Target Center at (202) 720-2600 (voice and TDD).

SUPPLEMENTARY INFORMATION: The Food, Conservation, and Energy Act of 2008 (2008 Farm Bill) (Pub. L 110-246) authorized the new CL Program. The CL Program was implemented on September 3, 2010, when FSA added the CL Program provisions to the existing direct and guaranteed loan regulations found in 7 CFR parts 761, 762, 764, 765, and 766 through the publication of the CL Program interim rule (75 FR 54005—54016). CL funds, when available, can be used to implement conservation practices approved by the Natural Resources Conservation Service, such as the installation of conservation structures; establishment of forest cover; installation of water conservation measures; establishment or improvement of permanent pastures; implementation of manure management; and the adaption of other emerging or existing conservation practices, techniques, or technologies.

This notice announces that FSA is no longer accepting direct or guaranteed loan applications for the CL Program due to lack of funding. However, conservation projects for authorized loan purposes may be funded through FSA's direct and guaranteed Farm Ownership and Farm Operating Loan Programs for eligible applicants.

FOR FURTHER INFORMATION CONTACT: Potential direct loan applicants should contact their FSA State or county office; potential guaranteed loan applicants should contact their lender. Office locations can be found at http://www.fsa.usda.gov. A notice will be published in the Federal Register announcing the date FSA will resume accepting direct and guaranteed loan applications for the CL Program if funding becomes available.

Signed on: May 9, 2011.
Bruce Nelson,
Acting Administrator, Farm Service Agency.

[FR Doc. 2011-11783 Filed 5-12-11; 8:45 am]

BILLING CODE 3410-05-P